NATIONAL CREDIT UNION ADMINISTRATION

Notice of Change in Subject of Meeting

The National Credit Union Administration Board determined that its business required the deletion of the following item from the previously announced closed meeting (Federal Register, Vol. 66, No. 93, page 24409, May 14, 2001) scheduled for Thursday, May 17, 2001:

2. One (1) Personnel Matter. Closed pursuant to exemptions (2) and (6).

The Board voted unanimously that agency business required that this item be removed from the closed agenda. Earlier announcement of this change was not possible.

The previously announced items were:

1. Administrative Action under Part 704 of NCUA's Rules and Regulations. Closed pursuant to exemption (8).

2. Two (2) Personnel Matters. Closed pursuant to exemptions (2) and (6).

FOR FURTHER INFORMATION CONTACT: Becky Baker, Secretary of the Board, Telephone (703) 518-6304.

Becky Baker,
Secretary of the Board.

[FR Doc. 01-13015 Filed 5-18-01; 12:51 pm]

BILLING CODE 7535-01-M